DEPARTMENT OF JUSTICE

Notice of Lodging of Consent Decree Under the Comprehensive Environmental Response, Compensation and Liability Act

Notice is hereby given that on February 17, 2011, a proposed consent decree in United States v. JELD-WEN, Inc., Civil Action No. 1:10-CV-494-PA, was lodged with the United States District Court for the District of Oregon.

In this action the United States sought the reimbursement of past costs incurred at the Circle DE Lumber Site in Klamath Falls, Oregon. Under the proposed consent decree, JELD-WEN has agreed to pay the United States $700,000.

The Department of Justice will receive for a period of thirty (30) days from the date of this publication comments relating to the decree. Comments should be addressed to the Assistant Attorney General, Environment and Natural Resources Division, and either emailed to pubcomment-ees.enrd@usdoj.gov or mailed to P.O. Box 7611, U.S. Department of Justice, Washington, DC 20044-7611, and should refer to United States v. JELD-WEN, inc., Civil Action No. 1:10, DOJ Ref. 90-11-3-09471/1.

During the public comment period, the consent decree may be examined on the following Department of Justice Web site: http://www.usdoj.gov/enrd/Consent_Decrees.html. A copy of the decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 (25 cents per page reproduction cost) payable to the U.S. Treasury or, if by e-mail or fax, forward a check in that amount to the Consent Decree Library at the stated address.

Maureen M. Katz,
Assistant Section Chief, Environmental Enforcement Section, Environment and Natural Resources Division.

[FR Doc. 2011-4762 Filed 3-2-11; 8:45 am]

BILLING CODE 4410-15-P